DEPARTMENT OF HEALTH AND HUMAN SERVICES

Centers for Disease Control and Prevention

[30DAY-13-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project

Nursing Homes' Access to Influenza Vaccine and Use of Rapid Influenza Tests and Antivirals—New—National Center for Infectious Diseases (NCID)—Uncontrolled nursing home influenza outbreaks can result in illness in ≥ 10 percent of residents. Vaccine is the primary means to prevent influenza and its complications. However, outbreaks can occur despite high vaccination levels. The use of rapid diagnostic tests and the timely administration of antiviral medications can lessen the impact of influenza outbreaks. In 1998, a study was conducted among nursing homes in nine states to determine the use of rimantadine. Since that time, new rapid diagnostic tests and neuraminidase inhibitor antiviral medications have been approved. In addition, a substantial delay in the distribution of influenza vaccine and a possible vaccine shortage are anticipated for the 2000-01 influenza season.

The purpose of this study is to assess nursing homes' access to vaccine in 2000-01, the use of rapid influenza diagnostic tests, and the influenza inhibitor antivirals. A survey will be mailed to sample of randomly selected nursing homes in the same nine states surveyed in 1998. The results will be used to evaluate resident and staff vaccination levels and the use of rapid influenza tests and antiviral medications. We will also assess the relationship between access to vaccine and the concurrence of outbreaks. The total annual burden hours are 573.

Respondents | Number of respondents | Number of responses per respondent | Avg. burden/respondents (in hrs)
NH Infection Control Nurse—mailed survey | 1108 | 1 | 20/60
NH Infection Control Nurse—Validation study | 204 | 1 | 1

Dated: December 18, 2000.
Chuck Gollmar,
Deputy Associate Director for Policy, Planning and Evaluation, Centers for Disease Control and Prevention (CDC).

[FR Doc. 00-32756 Filed 12-21-00; 8:45 am]

BILLING CODE 4163-18-P